NATIONAL SCIENCE FOUNDATION

Proposal Review Panel in Earth Sciences

Notice of Meeting

In accordance with the Federal Advisory Committee Act (Pub. L. 92-463, as amended), the National Science Foundation announces the following meeting:

Name: Earth Sciences Proposal Review Panel (1569).

Date & Time: March 29, 2004; 8:30 a.m.-5 p.m.; March 30, 2004; 8:30 a.m.-1 p.m.

Place: Revelle Room, AAAS Building, 1200 New York Avenue, Washington, DC 20005.

Type of Meeting: Part-Open—(see Agenda, below)

Contact Person: Dr. David Lambert, Program Director, Instrumentation & Facilities Program, Division of Earth Sciences, National Science Foundation, 4201 Wilson Boulevard, Arlington, VA 22230. Telephone: (703) 292-8558.

Purpose of Meeting: To carry out review of IRIS management and leadership as stipulated in cooperative agreement EAR-0004370.

Agenda

Closed: March 29 from 8:30-9:30 a.m.: Organization meeting, introductions, review of charge to review panel, discussion of COI; and from 1-5 p.m.: Panel discussion, write up of summary of findings and recommendations. March 30 from 8:30 a.m.-1 p.m.: Complete panel summary and recommendations.

Open: March 29 from 9:30 a.m.-12 p.m.: Presentation by IRIS management and Q&A between panel and IRIS.

Reason for Closing: During the closed sessions, the panel will be reviewing information of a proprietary or confidential nature, including technical information, financial data such as salaries, and personal information that could harm individuals if they are disclosed. If discussions were open to the public, these matters that are exempt under 5 U.S.C. 552b(c)(4) and (6) of the Government in the Sunshine Act would be improperly disclosed.

Dated: March, 9, 2004.
Susanne Bolton,
Committee Management Officer.

[FR Doc. 04-5660 Filed 3-11-04; 8:45 am]

BILLING CODE 7555-01-M